DEPARTMENT OF ENERGY

Federal Energy Regulatory Commission

[Docket No. RP02-11-000]

Transwestern Pipeline Company; Notice of Proposed Changes in FERC Gas Tariff

October 4, 2001.

Take notice that on October 1, 2001, Transwestern Pipeline Company (Transwestern), tendered for filing to become part of Transwestern's FERC Gas Tariff, Second Revised Volume No. 1, the following tariff sheets proposed to become effective on November 1, 2001:

Twelfth Revised Sheet No. 5B.02

Ninth Revised Sheet No. 5B.03

Transwestern's Stipulation and Agreement filed on May 2, 1995, in Docket Nos. RP95-271, et al., as amended by Transwestern's Stipulation and Agreement filed on May 21, 1996, provided for annual adjustments to the Settlement Base Rates (SBRs) beginning November 1, 1998. The Stipulation and Agreement also provided for the Shared Cost Surcharge (SCS).

Transwestern states that the purpose of this filing is to set forth the factors and calculations used in determining the adjustments to the SBRs and to revise the SBRs to be effective November 1, 2001, and to terminate the SCS effective November 1, 2001.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

David P. Boergers,
Secretary.

[FR Doc. 01-25513 Filed 10-10-01; 8:45 am]

BILLING CODE 6717-01-P